DEPARTMENT OF EDUCATION

Accrediting Agency Currently Undergoing Review During the Period of Recognition by the U.S. Secretary of Education

AGENCY: Accreditation Group, Office of Postsecondary Education, U.S. Department of Education,

ACTION: Call for written third-party comments.

SUMMARY: This notice provides information to members of the public on submitting written comments for accrediting agencies currently undergoing review during the period of recognition by the U.S. Secretary of Education.

FOR FURTHER INFORMATION CONTACT: Herman Bounds, Director, Accreditation Group, Office of Postsecondary Education, U.S. Department of Education, 400 Maryland Avenue SW, Room 270-01, Washington, DC 20202, telephone: (202) 453-7615, or email: herman.bounds@ed.gov.

SUPPLEMENTARY INFORMATION: This request for written third-party comments concerning the performance of accrediting agencies during their period of recognition is pursuant to 34 Code of Federal Regulations (CFR) § 602.33(c)(4)(iii)(B).

This accrediting agency will be added to the agenda for the Winter 2021 National Advisory Committee on Institutional Quality and Integrity (NACIQI) meeting, notice of which was published May 28, 2020 (85 FRN 32031). The meeting date and location have not been determined but will be announced in a later Federal Register notice.

Agencies Under Review and Evaluation

The Department requests written comments from the public on the following accrediting agency, which is currently undergoing review and evaluation during its period of recognition by the Department's Office of Postsecondary Education Accreditation Group, in accordance with the procedures set forth in 34 CFR 602.33.

Inquiries Under 34 Code of Federal Regulations (CFR) § 602.33:

Accrediting Council for Independent Colleges and Schools (ACICS)

a. 34 CFR 602.33 review in response to ACICS monitoring report. Pursuant to the November 21, 2018 Decision of the Secretary, Docket No. 16-44-0 (available at https://opeweb.ed.gov/e-Recognition/PublicDocuments under NACIQI meeting date: 06/23/2016 for ACICS), ACICS submitted a monitoring report on issues identified in the Decision related to the agency's compliance with the Criteria in 34 CFR 602.15(a)(1), 602.16(a)(1)(i), 602.16(a)(1)(vii), and 602.19(b). In its review of the monitoring report, the Department staff noted that one or more deficiencies may exist in the agency's compliance with the Secretary's Criteria for Recognition or the agency's effective application of those Criteria, and therefore processed the monitoring report in accordance with the review procedures set forth in 34 CFR 602.33. The review has identified noncompliance with the Criteria in 34 CFR 602.15(a)(1) and 602.19(b).

b. 34 CFR 602.33 review initiated by inquiry letter dated June 19, 2019 (letter available at https://www.ed.gov/accreditation/acics). The initiation of the review was based on information from media coverage of ACICS's presentation to the Council for Higher Education Accreditation concerning its financial situation and its review of two institutions, Virginia International University and San Diego University for Integrative Studies. The review has identified noncompliance with the Criteria in 34 CFR 602.15(a)(1), 602.16(c), 602.17(c), and 602.17(e). It should be noted that the new accreditation regulations effective July 1, 2020 changed 602.16(c) to 602.16(d). There are no substantive changes to the regulations, just a change in numbering.

c. 34 CFR 602.33 review initiated by inquiry letter dated February 24, 2020 (letter available at https://www.ed.gov/accreditation/acics). The initiation of the review was based on information from media coverage alleging that ACICS accredited Reagan National University, an institution not actually in operation. The review has identified noncompliance with the Criteria in 34 CFR 602.15(a)(1), 602.15(a)(2), 602.17(c), 602.18(c), and 602.19(b). It should be noted that the new regulations effective July 1, 2020 changed 602.18(c) to 602.18(b)(3). There are no substantive changes to the regulations, just a change in numbering.

Submission of Written Comments Regarding a Specific Accrediting Agency Under Review

Written comments about the recognition of a specific accrediting agency must be received by November 20, 2020 in the ThirdPartyComments@ed.gov mailbox and include the subject line “Written Comments: (agency name).” The email must include the name(s), title, organization/affiliation, mailing address, email address, and telephone number of the person(s) making the comment. Comments should be submitted as a Microsoft Word document or in a medium compatible with Microsoft Word (not a PDF file) that is attached to an electronic mail message (email) or provided in the body of an email message. Comments about an agency must relate to the Criteria cited in in the Secretary's appeal decision, or to the agency's compliance with the Criteria identified in the inquiry findings specifically listed above. The Criteria are available at http://www.ed.gov/admins/finaid/accred/index.html.

Only written material submitted by the deadline to the email address listed in this notice, and in accordance with these instructions, become part of the official record concerning agencies scheduled for review and are considered by the Department and NACIQI in their deliberations.

A later Federal Register notice will describe how to register to provide oral comments at the Winter 2021 meeting regarding the recognition of a specific accrediting agency or State approval agency.

Electronic Access to this Document: The official version of this document is the document published in the Federal Register. Free internet access to the official edition of the Federal Register and the Code of Federal Regulations is available via the Federal Digital System at: www.gpo.gov/fdsys. At this site, you can view this document, as well as all other documents of this Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Authority: 20 U.S.C. 1011c.

Robert L. King,
Assistant Secretary for Postsecondary Education.

[FR Doc. 2020-24595 Filed 11-4-20; 8:45 am]

BILLING CODE P